DEPARTMENT OF THE INTERIOR

Fish and Wildlife Service

[FWS-R4-R-2008-N0216; 40136-1265-0000-S3]

Grand Bay National Wildlife Refuge, Jackson County, MS, and Mobile County, AL

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for Grand Bay National Wildlife Refuge (NWR). In the final CCP, we describe how we will manage this refuge for the next 15 years.

ADDRESSES: A copy of the CCP may be obtained by writing to: Mr. Lloyd Culp, Manager, Gulf Coast NWR Complex, 7200 Crane Lane, Gautier, MS 39553. The CCP may also be accessed and downloaded from the Service's Web site: http://southeast.fws.gov/planning.

FOR FURTHER INFORMATION CONTACT: Mr. Mike Dawson, Refuge Planner, Jackson, MS; Telephone: 601/965-4903 ext. 20; fax: 601/965-4010; e-mail: mike_dawson@fws.gov.

SUPPLEMENTARY INFORMATION:

Introduction

With this notice, we finalize the CCP process for Grand Bay NWR. We started this process through a notice in the Federal Register on December 29, 2005 (70 FR 77176). For more about the process, see that notice.

Grand Bay NWR was established in 1992 with an acquisition boundary of 12,100 acres. The main purpose of the refuge is to protect one of the largest expanses of Gulf coast savanna remaining in a relatively undisturbed state. In 1997, a 2,700-acre expansion was approved to bring under management a section of the scenic Escatawpa River. In 2003, another expansion was approved to include a string of nearshore barrier islands just south of the refuge (660 acres) and a 5-acre tract on the north side of Independence Road, which forms part of the refuge's northern boundary. To date, the Service has acquired approximately 10,188 acres within the acquisition boundary. The refuge was established under the authority of the Emergency Wetlands Resources Act of 1986.

Grand Bay NWR is located in the coastal zone of Jackson County, Mississippi, and Mobile County, Alabama, approximately 10 miles east of Pascagoula, Mississippi, and about 20 miles west of Mobile, Alabama. It forms part of the Gulf Coast National Wildlife Refuge Complex, which also includes Mississippi Sandhill Crane NWR to the west and Bon Secour NWR to the east.

Habitats encompassed by the refuge include a riverine area on the west side containing a section of the Escatawpa River and a tributary, Black Creek; an area of coastal savanna in the central part of the refuge; and a large gopher tortoise colony at the northeast corner of the refuge.

Grand Bay NWR's cypress-tupelo swamps provide ideal habitat for wood ducks, other migratory birds, and many resident wildlife species, including white-tailed deer and wild turkey. The refuge's salt flats, tidal creeks, and brackish marshes are used extensively by wading birds, shorebirds, and waterfowl, including the mottled duck, a species of concern in both Alabama and Mississippi. About 20 percent of the coastal waterfowl in Alabama and Mississippi winter in this area, the most prevalent duck species being lesser scaup, redhead, ring-necked, mallard, and American wigeon.

Other species that use the refuge's estuarine habitats include bald eagles, peregrine falcons, clapper rails, black rails, Gulf salt marsh water snakes, and Mississippi diamondback terrapins.

The fishery of the Escatawpa River system and its associated sloughs and lakes contain populations of species such as largemouth bass, bream, crappie, and catfish. Public fishing is popular along the river. More than 80 species of fish have been reported from the estuarine habitats of Grand Bay NWR, including Atlantic croaker, spot, menhaden, spotted sea trout, flounder, red drum, oysters, and several species of shrimp.

Grand Bay NWR provides a wide variety of habitats for migratory species. The northern portion of the refuge is composed of a palustrine forested habitat, with mixed hardwoods and slash/loblolly pine as the most prevalent species types. This habitat supports a broad variety of neotropical migratory birds, as well as several species of waterfowl.

Further south within the refuge, a palustrine emergent ecosystem becomes more common, with increasing shrubs and bottomland hardwood stands. At the true coastal interface, the habitat transitions into a broad floodplain swamp ecosystem. The southernmost portions open to marine intertidal, estuarine subtidal, and estuarine intertidal emergents, and finally to palustrine unconsolidated shore. This portion supports various species of sandpipers, terns, and kites.

Threatened and endangered species that occur or visit the refuge include the threatened gopher tortoise and the endangered red-cockaded woodpecker.

Popular recreation uses at Grand Bay NWR include hunting, fishing, wildlife observation, wildlife photography, and boating. Wildlife viewing and photography programs, as well as environmental education and interpretation, are also being developed on the refuge, especially in conjunction with a visitor center now under construction.

We announce our decision and the availability of the Final CCP and FONSI for Grand Bay NWR in accordance with the National Environmental Policy Act (NEPA) (40 CFR 1506.6(b)) requirements. We completed a thorough analysis of impacts on the human environment, which we included in the draft comprehensive conservation plan and environmental assessment.

The compatibility determinations for (1) Hunting; (2) fishing; (3) wildlife observation and photography; and (4) environmental education and interpretation are also available within the final CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every15 years in accordance with the Improvement Act.

Comments

Approximately 100 copies of the Draft CCP/EA were made available for a 30-day public review period as announced in the Federal Register on April 16, 2008 (73 FR 20704). Only one public comment was received.

Selected Alternative

We have selected Alternative C for implementation as it is judged to be the most effective management action for meeting the purposes of the refuge. Alternative C will optimize habitat management and visitor services throughout the refuge. Over the life of the plan, Grand Bay NWR will support the annual population objective of the North American Waterfowl Management Plan by contributing 20 percent (3,600 ducks) of a midwinter population of approximately 18,000 ducks in the Coastal Mississippi Wetlands Initiative Area. For all other migratory birds, the refuge will provide habitats sufficient to meet population goals of regional and national bird conservation plans.

The refuge will create and enhance favorable conditions for gopher tortoises (200 acres) and for the possible reintroduction of 12-15 Mississippi sandhill cranes (5-7 nesting pairs) and the gopher frog (creating two ponds). Grand Bay NWR will also develop and maintain inventories for small mammals, butterflies, reptiles, amphibians, and possibly other taxa.

The refuge will restore 2,500 acres of wet pine savanna habitat, supporting primarily grassy-herbaceous dominated conditions to benefit grassland birds. Grand Bay NWR will also aim to restore forest structure to promote super-emergent trees, cavities, and understory structure on approximately 2,000 acres to benefit migratory land birds. The refuge will utilize prescribed fire to manage habitat and reduce hazardous fuels on approximately 5,000 acres, with goals to set prescribed fires on a 2-3 year rotation with 50 percent of burns occurring during the growing season, and to suppress wildfires.

In partnership with Grand Bay National Estuarine Research Reserve (NERR), the refuge will annually control 50 acres of cogongrass and Chinese tallow, while controlling other invasive flora opportunistically.

Under Alternative C, Grand Bay NWR will aim to acquire 100 percent of all lands within the approved acquisition boundary within 15 years of CCP approval. The refuge will develop and begin to implement a Cultural Resources Management Plan that will be used to provide overall management direction for cultural resources at Grand Bay NWR. In order to protect its resources, the refuge will provide two full-time law enforcement officers.

In partnership with NERR, the refuge will operate a new joint research, office, education facility/visitor center to provide benefits to visitors. The refuge will also continue to allow fishing and provide hunting for deer, squirrel, and waterfowl, consistent with state regulations and seasons. With limited refuge support, NERR will continue environmental education and interpretation at current levels, including participation in community events, on- and off-site environmental education, guided tours, and interpretive trails. In partnership with NERR, Grand Bay NWR will maintain current wildlife observation and photography programs and facilities.

In cooperation with NERR, the refuge will provide sufficient resources to implement a comprehensive refuge management program to protect and manage the natural and cultural values of the refuge's habitats and fulfill the refuge's purposes and goals.

Under Alternative C, in terms of staffing, Grand Bay NWR will supplement the existing staff of two with one biologist, one park ranger, one biological technician, one equipment operator, and one law enforcement officer.

Authority: This notice is published under the authority of the National Wildlife Refuge System Improvement Act of 1997, Public Law 105-57.

Dated: September 17, 2008.
Cynthia K. Dohner,
Acting Regional Director.

[FR Doc. E8-27452 Filed 11-18-08; 8:45 am]

BILLING CODE 4310-55-P